DEPARTMENT OF HEALTH AND HUMAN SERVICES

National Institutes of Health

Eunice Kennedy Shriver National Institute of Child Health & Human Development; Amended Notice of Meeting

Notice is hereby given of a change in the meeting of the Eunice Kennedy Shriver National Institute of Child Health and Human Development Special Emphasis Panel, NICHD Bio-Specimen Repository, June 18, 2024, 10 a.m. to June 18, 2024, 4 p.m., Eunice Kennedy Shriver National Institute of Child, 6710B Rockledge Drive, Bethesda, MD, 20892, which was published in the Federal Register on May 07, 2024, FR Doc. No. 2024-09946, 89 FR 38167.

This notice is being amended to change the date of the meeting from June 18, 2024, to June 25, 2024. The time of the meeting will remain the same: 10 a.m. to 4 p.m. The meeting is closed to the public.

Dated: May 10, 2024.
Lauren A. Fleck,
Program Analyst, Office of Federal Advisory Committee Policy.

[FR Doc. 2024-10712 Filed 5-15-24; 8:45 am]

BILLING CODE 4140-01-P